DEPARTMENT OF COMMERCE

Foreign-Trade Zones Board

[B-23-2024]

Foreign-Trade Zone (FTZ) 207; Authorization of Production Activity; voestalpine High Performance Metals LLC; (Wire Rod); South Boston, Virginia

On May 15, 2024, voestalpine High Performance Metals submitted a notification of proposed production activity to the FTZ Board for its facility within Subzone 207E, in South Boston, Virginia.

The notification was processed in accordance with the regulations of the FTZ Board (15 CFR part 400), including notice in the Federal Register inviting public comment (89 FR 44959, May 22, 2024). On September 12, 2024, the applicant was notified of the FTZ Board's decision that no further review of the activity is warranted at this time. The production activity described in the notification was authorized, subject to the FTZ Act and the FTZ Board's regulations, including section 400.14.

Dated: September 12, 2024.
Elizabeth Whiteman,
Executive Secretary.

[FR Doc. 2024-21090 Filed 9-16-24; 8:45 am]

BILLING CODE 3510-DS-P